DEPARTMENT OF LABOR

Employment and Training Administration

Notice of Determinations Regarding Eligibility To Apply for Worker Adjustment Assistance

In accordance with Section 223 of the Trade Act of 1974, as amended (19 U.S.C. 2273) the Department of Labor herein presents summaries of determinations regarding eligibility to apply for trade adjustment assistance for workers by (TA-W) number issued during the period of August 23, 2010 through August 27, 2010.

In order for an affirmative determination to be made for workers of a primary firm and a certification issued regarding eligibility to apply for worker adjustment assistance, each of the group eligibility requirements of Section 222(a) of the Act must be met.

I. Under Section 222(a)(2)(A), the following must be satisfied:

(1) A significant number or proportion of the workers in such workers' firm have become totally or partially separated, or are threatened to become totally or partially separated;

(2) The sales or production, or both, of such firm have decreased absolutely; and

(3) One of the following must be satisfied:

(A) Imports of articles or services like or directly competitive with articles produced or services supplied by such firm have increased;

(B) Imports of articles like or directly competitive with articles into which one or more component parts produced by such firm are directly incorporated, have increased;

(C) Imports of articles directly incorporating one or more component parts produced outside the United States that are like or directly competitive with imports of articles incorporating one or more component parts produced by such firm have increased;

(D) Imports of articles like or directly competitive with articles which are produced directly using services supplied by such firm, have increased; and

(4) The increase in imports contributed importantly to such workers' separation or threat of separation and to the decline in the sales or production of such firm; or

II. Section 222(a)(2)(B) all of the following must be satisfied:

(1) A significant number or proportion of the workers in such workers' firm have become totally or partially separated, or are threatened to become totally or partially separated;

(2) One of the following must be satisfied:

(A) There has been a shift by the workers' firm to a foreign country in the production of articles or supply of services like or directly competitive with those produced/supplied by the workers' firm;

(B) There has been an acquisition from a foreign country by the workers' firm of articles/services that are like or directly competitive with those produced/supplied by the workers' firm; and

(3) The shift/acquisition contributed importantly to the workers' separation or threat of separation.

In order for an affirmative determination to be made for adversely affected workers in public agencies and a certification issued regarding eligibility to apply for worker adjustment assistance, each of the group eligibility requirements of Section 222(b) of the Act must be met.

(1) A significant number or proportion of the workers in the public agency have become totally or partially separated, or are threatened to become totally or partially separated;

(2) The public agency has acquired from a foreign country services like or directly competitive with services which are supplied by such agency; and

(3) The acquisition of services contributed importantly to such workers' separation or threat of separation.

In order for an affirmative determination to be made for adversely affected secondary workers of a firm and a certification issued regarding eligibility to apply for worker adjustment assistance, each of the group eligibility requirements of Section 222(c) of the Act must be met.

(1) A significant number or proportion of the workers in the workers' firm have become totally or partially separated, or are threatened to become totally or partially separated;

(2) The workers' firm is a Supplier or Downstream Producer to a firm that employed a group of workers who received a certification of eligibility under Section 222(a) of the Act, and such supply or production is related to the article or service that was the basis for such certification; and

(3) Either—

(A) The workers' firm is a supplier and the component parts it supplied to the firm described in paragraph (2) accounted for at least 20 percent of the production or sales of the workers' firm; or

(B) A loss of business by the workers' firm with the firm described in paragraph (2) contributed importantly to the workers' separation or threat of separation.

In order for an affirmative determination to be made for adversely affected workers in firms identified by the International Trade Commission and a certification issued regarding eligibility to apply for worker adjustment assistance, each of the group eligibility requirements of Section 222(f) of the Act must be met.

(1) The workers' firm is publicly identified by name by the International Trade Commission as a member of a domestic industry in an investigation resulting in—

(A) An affirmative determination of serious injury or threat thereof under section 202(b)(1);

(B) An affirmative determination of market disruption or threat thereof under section 421(b)(1); or

(C) An affirmative final determination of material injury or threat thereof under section 705(b)(1)(A) or 735(b)(1)(A) of the Tariff Act of 1930 (19 U.S.C. 1671d(b)(1)(A) and 1673d(b)(1)(A));

(2) The petition is filed during the 1-year period beginning on the date on which—

(A) A summary of the report submitted to the President by the International Trade Commission under section 202(f)(1) with respect to the affirmative determination described in paragraph (1)(A) is published in the Federal Register under section 202(f)(3); or

(B) Notice of an affirmative determination described in subparagraph (1) is published in the Federal Register; and

(3) The workers have become totally or partially separated from the workers' firm within—

(A) The 1-year period described in paragraph (2); or

(B) Notwithstanding section 223(b)(1), the 1-year period preceding the 1-year period described in paragraph (2).

Affirmative Determinations for Worker Adjustment Assistance

The following certifications have been issued. The date following the company name and location of each determination references the impact date for all workers of such determination.

The following certifications have been issued. The requirements of Section 222(a)(2)(A) (increased imports) of the Trade Act have been met.

TA-W No. | Subject firm | Location | Impact date
73,873 | Teleperformance USA Corporation, TPUSA, Inc | Salt Lake City, UT | March 30, 2009.
73,873A | Teleperformance USA Corporation, TPUSA, Inc | Lindon, UT | March 30, 2009.
73,903 | Owens-Illinois, Inc., Leased Workers from Manpower, Inc | Clarion, PA | April 9, 2009.
73,982 | Smiths Medical PM, Inc., Leased Workers from Aerotek and Spherion | Waukesha, WI | April 14, 2009.
74,133 | Time Sensitive Circuits | Amesbury, MA | May 20, 2009.
74,171 | Waytec Electronics Corporation, Leased Workers from Alpha Omega, Kelly Services, and ManPower | Lynchburg, VA | May 27, 2009.
74,237 | Temple-Inland | Evansville, IN | June 7, 2009.
74,279 | Soo Tractor Sweeprake Company | Sioux City, IA | June 12, 2009.
74,357 | Cinram Distribution, LLC, Cinram International; Simi Valley Distribution Center; Leased Workers, etc | Simi Valley, CA | July 7, 2009.

The following certifications have been issued. The requirements of Section 222(a)(2)(B) (shift in production or services) of the Trade Act have been met.

TA-W No. | Subject firm | Location | Impact date
72,869 | Dell, Inc., Global Command Center and Proactive Maintenance Divisions; Leased Workers, etc | Oklahoma City, OK | November 11, 2008.
73,153 | Kimberly-Clark Global Sales, Inc., Kimberly-Clark Corporation; Leased Workers from Stafflogix Corporation | Neenah, WI | December 18, 2008.
73,153A | Kimberly-Clark Worldwide, Inc., Kimberly-Clark Corporation; Leased Workers from Stafflogix Corporation | Neenah, WI | December 18, 2008.
73,657 | SunGard Public Sector, SunGard Data Systems | Lake Mary, FL | March 5, 2009.
73,809 | Hewlett Packard/EDS, Primary Delivery Engineer Unit, Working On-Site At Proctor & Gamble | Cincinnati, OH | March 19, 2009.
73,909 | International Business Machines (IBM), Service Parts Organizations | Mechanicsburg, PA | March 29, 2009.
74,141 | Affiliated Computer Services, Inc., Xerox Corporation, Workers of ACS Application Management Services, etc | Dallas, TX | May 24, 2009.
74,156 | Mattel, Inc., Global Logistics Org., Distribution Center, Leased Workers Select Staffing | City of Industry, CA | May 17, 2009.
74,164 | International Business Machines (IBM), Global Technology Services Delivery Division | Greenville, SC | May 26, 2009.
74,185 | LF USA, Inc., Li & Fung Limited, Leased Workers from Winston Staffing | New York, NY | May 21, 2009.
74,319 | RR Donnelley, Digital Solutions Center Division | Pontiac, IL | June 29, 2009.
74,336 | Polaris Industries, Leased Workers from Westaff | Osceola, WI | June 28, 2009.
74,368 | Novartis Pharmaceuticals Corporation, Electronic Data Management Division; Leased Workers from RCM Technologies, etc | East Hanover, NJ | July 9, 2009.
74,386 | Goodyear Tire & Rubber Company, Tyler Plant; Leased Workers Unicco Contracted Services and Kelly Services | Tyler, TX | June 30, 2009.
74,413 | McGuire Furniture Company, Kohler Co., Leased Workers from Manpower and Ajilon | San Francisco, CA | July 8, 2009.
74,465 | Harman Consumer, Inc., Engineering Department; Division of Harman International Industries, Inc. | Northridge, CA | August 2, 2009.
74,472 | EMC Corporation, Information Infrastructure Products, Ionix Software Engineers | Research Triangle Park, NC | July 30, 2009.
74,472A | EMC Corporation, Information Infrastructure Products, Ionix Software Engineers | Hopkinton, MA | July 30, 2009.
74,473 | EMC Corporation, Information Infrastructure Products, Ionix Software Engineers | Alexandria, VA | July 30, 2009.
74,474 | EMC Corporation, Information Infrastructure Products; Ionix Software Engineers; etc | Berkeley Heights, NJ | July 30, 2009.
74,479 | EMC Corporation, Information Infrastructure Products; Ionix Software Engineers | Richardson, TX | July 30, 2009.
74,480 | EMC Corporation, Information Infrastructure Products; Ionix Software Engineers | White Plains, NY | July 30, 2009.
74,503 | Road 9, Inc., Leased Workers From TPA-Administaff Companies II, LP | Greenwood Village, CO | August 10, 2009.
74,523 | RR Donnelley, Digital Solutions Center Division; Leased Workers from Quality Personnel | Glasgow, KY | August 11, 2009.
74,531 | Anthem Insurance Companies, Inc., Wellpoint, Finance Accounting, Leased Workers from Rogert Half/Accounting etc | Mason, OH | August 13, 2009.

The following certifications have been issued. The requirements of Section 222(c) (supplier to a firm whose workers are certified eligible to apply for TAA) of the Trade Act have been met.

TA-W No. | Subject firm | Location | Impact date
73,610 | Visteon Corporation, Springfield Plant; Leased Workers MSX International, Adecco, Manpower | Springfield, OH | March 2, 2009.

Negative Determinations for Worker Adjustment Assistance

In the following cases, the investigation revealed that the eligibility criteria for worker adjustment assistance have not been met for the reasons specified.

The investigation revealed that the criterion under paragraph (a)(1), or (b)(1), or (c)(1) (employment decline or threat of separation) of section 222 has not been met.

TA-W No. | Subject firm | Location | Impact date
73,335 | Arvin Technologies, Inc | Troy, MI. |
73,335A | ArvinMeritor, Inc | Troy, MI. |

The investigation revealed that the criteria under paragraphs (a)(2)(A)(i) (decline in sales or production, or both) and (a)(2)(B) (shift in production or services to a foreign country) of section 222 have not been met.

TA-W No. | Subject firm | Location | Impact date
74,235 | RSG Forest Products, Inc | Kalama, WA. |

The investigation revealed that the criteria under paragraphs (a)(2)(A) (increased imports) and (a)(2)(B) (shift in production or services to a foreign country) of section 222 have not been met.

TA-W No. | Subject firm | Location | Impact date
73,045 | Techline, USA, Leased Workers from Express Employment Professionals | Waunakee, WI. |
73,137 | Loadcraft Industries, Ltd | Brady, TX. |
73,479 | Enesco, LLC, Gund Division, Distribution Center | Edison, NJ. |
73,508 | Wausau Window And Wall Systems, A Subsidiary of Apogee Enterprises, Inc. | Wausau, WI. |
73,551 | RMC Pacific Materials, Inc., Cemex, Inc | Davenport, CA. |
73,685 | Northwestern Tool & Die, LLC | Vernon Hills, IL. |
73,815 | Colfax Envelope Corporation | Buffalo Grove, IL. |
74,079 | San Francisco Chronicle, Hearst Communications, Leased Workers from Correstaff, etc. | Union City, CA. |
74,089 | The Eastridge Group of Staffing Companies, Contractors & Builders Division; Bosa Holding, Inc. | San Diego, CA. |
74,118 | Ach Food Company, Inc | Jacksonville, IL. |
74,192 | KDH Defense Systems, Incorporated | Waynesburg, PA. |
74,375 | Wisconsin Bell, Inc., Doing Business As Wisconsin Bell; Consumer Centers Sales and Services | Milwaukee, WI. |
74,458 | Smart-Sox, Inc | Thomasville, NC. |
74,462 | US Airways, Inc., Port Columbus, Fleet Services | Columbus, OH. |

Determinations Terminating Investigations of Petitions for Worker Adjustment Assistance

After notice of the petitions was published in the Federal Register and on the Department's website, as required by Section 221 of the Act (19 U.S.C. 2271), the Department initiated investigations of these petitions.

The following determinations terminating investigations were issued because the petitioner has requested that the petition be withdrawn.

TA-W No. | Subject firm | Location | Impact date
74,475 | EMC Corporation, Information Infrastructure Products, Ionix Software Engineers | Berkeley Heights, NJ. |
74,476 | EMC Corporation, Information Infrastructure Products, Ionix Software Engineers | Colorado Springs, CO. |
74,477 | EMC Corporation, Information Infrastructure Products, Ionix Software Engineers | Colorado Springs, CO. |

The following determinations terminating investigations were issued because the petitioning groups of workers are covered by active certifications. Consequently, further investigation in these cases would serve no purpose since the petitioning group of workers cannot be covered by more than one certification at a time.

TA-W No. | Subject firm | Location | Impact date
74,478 | EMC Corporation, Information Infrastructure Products, Ionix Software Engineers | Duluth, GA. |
74,535 | The TriZetto Group, Inc. | Greenwood Village, CO. |

I hereby certify that the aforementioned determinations were issued during the period of August 23, 2010 through August 27, 2010. Copies of these determinations may be requested under the Freedom of Information Act. Requests may be submitted by fax, courier services, or mail to FOIA Disclosure Officer, Office of Trade Adjustment Assistance (ETA), U.S. Department of Labor, 200 Constitution Avenue, NW., Washington, DC 20210 or tofoiarequest@dol.gov. These determinations also are available on the Department's website at http://www.doleta.gov/tradeact under the searchable listing of determinations.

Dated: September 3, 2010.
Elliott S. Kushner,
Certifying Officer, Division of Trade Adjustment Assistance.

[FR Doc. 2010-22922 Filed 9-14-10; 8:45 am]

BILLING CODE 4510-FN-P